DEPARTMENT OF COMMERCE

International Trade Administration

[A-489-807]

Revocation of Antidumping Duty Order: Certain Steel Concrete Reinforcing Bars from Turkey

AGENCY: Import Administration, International Trade Administration, Department of Commerce.

SUMMARY: On February 1, 2008, the Department of Commerce (the Department) initiated a sunset review of the antidumping duty order on certain steel concrete reinforcing bars (rebar) from Turkey. See Initiation of Five-year (“Sunset”) Reviews, 73 FR 6128 (Feb. 1, 2008). Pursuant to section 751(c) of the Tariff Act of 1930, as amended (the Act), the International Trade Commission (ITC) determined that revocation of this order would not be likely to lead to continuation or recurrence of material injury to an industry in the United States within a reasonably foreseeable time. See Steel Concrete Reinforcing Bar From Turkey; Determination, 73 FR 77841 (Dec. 19, 2008) (ITC Final). Therefore, pursuant to section 751(d)(2) of the Act and 19 CFR 351.222(i)(1)(iii), the Department is revoking the antidumping duty order on rebar from Turkey.

EFFECTIVE DATE: March 26, 2008.

FOR FURTHER INFORMATION CONTACT: Elizabeth Eastwood, AD/CVD Operations, Office 2, Import Administration, International Trade Administration, U.S. Department of Commerce, 14th Street and Constitution Avenue NW, Washington, DC 20230; telephone: (202) 482-3874.

SUPPLEMENTARY INFORMATION:

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this order is dispositive.

Background

On April 17, 1997, the Department issued the antidumping duty order on rebar from Turkey. See Antidumping Duty Order: Certain Steel Concrete Reinforcing Bars From Turkey, 62 FR 18748 (Apr. 17, 1997).

On February 1, 2008, the Department initiated, and the ITC instituted, a sunset review of the antidumping duty order on rebar from Turkey. See Initiation of Five-year (“Sunset”) Reviews, 73 FR 6128 (Feb. 1, 2008). As a result of its sunset review of this order, the Department found that revocation of the antidumping duty order would be likely to lead to the continuation or recurrence of dumping. See Certain Steel Concrete Reinforcing Bars from Turkey; Final Results of the Expedited Sunset Review of the Antidumping Duty Order, 73 FR 24534 (May 5, 2008). The Department notified the ITC of the magnitude of the margins likely to prevail were the antidumping duty order to be revoked.

On December 19, 2008, the ITC determined, pursuant to section 751(c) of the Act, that revocation of this order would not be likely to lead to continuation or recurrence of material injury to an industry in the United States within a reasonably foreseeable time. See ITC Final and USITC Publication 4052 (December 2008), titled Steel Concrete Reinforcing Bar from Turkey (Inv. No. 701-TA-745 (Second Review)).

Revocation

As a result of the determination by the ITC that revocation of this order is not likely to lead to the continuation or recurrence of material injury to an industry in the United States, the Department, pursuant to section 751(d) of the Act, is revoking the antidumping duty order on rebar from Turkey. Pursuant to section 751(d)(2) of the Act and 19 CFR 351.222(i)(2)(i), the effective date of revocation is March 26, 2008 (i.e., the fifth anniversary of the date of publication in the Federal Register of the notice of continuation of this antidumping duty order). The Department will notify U.S. Customs and Border Protection to discontinue suspension of liquidation and collection of cash deposits on entries of the subject merchandise entered or withdrawn from warehouse on or after March 26, 2008, the effective date of revocation of the antidumping duty order. The Department will complete any pending administrative reviews of this order.

This revocation and notice are issued in accordance with section 751(d)(2) of the Act and published pursuant to section 777(i)(1) of the Act and 19 CFR 351.222(i)(2).

Dated: December 24, 2008.
David M. Spooner,
Assistant Secretary for Import Administration.

[FR Doc. E8-31368 Filed 1-2-09; 8:45 am]

BILLING CODE 3510-DS-S